ENVIRONMENTAL PROTECTION AGENCY

[EPA-HQ-OPP-2002-0247; FRL-7752-5]

Azinphos-methyl; Order to Amend Registrations to Terminate Certain Uses

AGENCY: Environmental Protection Agency (EPA).

ACTION: Notice.

SUMMARY: This notice announces the order to amend registrations to terminate certain uses, voluntarily requested by the registrant(s) and accepted by the Agency, of products containing the pesticide azinphos-methyl, pursuant to section 6(f)(1) of the Federal Insecticide, Fungicide, and Rodenticide Act (FIFRA), as amended. This cancellation order follows a September 30, 2002 Federal Register Notice of Receipt of Requests (67 FR 61337) (FRL-7199-6) from the azinphos-methyl registrants to amend their product registrations to terminate certain uses of azinphos-methyl from their product registrations. In the September 30, 2002 Notice, EPA indicated that it would issue an order implementing the amendments to terminate uses, unless the Agency received substantive comments within the 30-day comment period that would merit its further review of these requests. The Agency did not receive any comments on the Notice. Accordingly, EPA approved new labels without the uses in August 2003. Any distribution, sale, or use of the azinphos-methyl products subject to this cancellation order is permitted only in accordance with the terms of this order, including any existing stocks provisions.

DATES: The cancellations are effective December 28, 2005.

FOR FURTHER INFORMATION CONTACT: Diane Isbell, Special Review and Reregistration Division (7508C), Office of Pesticide Programs, Environmental Protection Agency, 1200 Pennsylvania Ave., NW., Washington, DC 20460-0001; telephone number: (703) 308-8154; fax number: (703) 308-8041; e-mail address: isbell.diane@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

1. Docket. EPA has established an official public docket for this action under docket identification (ID) number EPA-HQ-OPP-2002-0247. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1801 S. Bell St., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

EDOCKET, EPA's electronic public and comment system was replaced on November 25, 2005, by an enhanced Federal-wide electronic docket management and comment system located at http://www.regulations.gov/. Follow the on-line instructions.

An electronic version of the public docket is available through EPA's electronic public docket and comment system, EPA Dockets. You may use EPA Dockets at http://www.epa.gov/edocket/ to view public comments, access the index listing of the contents of the official public docket, and to access those documents in the public docket that are available electronically. Although not all docket materials may be available electronically, you may still access any of the publicly available docket materials through the docket facility identified in Unit I.B.1. Once in the system, select “search,” then key in the appropriate docket ID number.

II. What Action is the Agency Taking?

On May of 2002, Bayer CropScience, Makheteshim Chemical Works, Gowan Company, and Micro-Flo Corporation signed a Memorandum of Agreement with EPA implementing the provisions of the Azinphos-methyl IRED by dividing the universe of uses into three groups. Group 1 contained 23 crops with little use that were deleted from product labels immediately. Group 2 consists of seven uses that are scheduled to be phased out. Group 3 is comprised of 10 uses which have time-limited registrations pending the submission and evaluation of renewal applications and biomonitoring, product efficacy, and other data.

In August 2003, the Agency approved the requested amendments to terminate the Group 1 uses of azinphos-methyl from the product registrations. New labels were approved without the Group 1 uses. The Group 1 uses, requested for termination by the registrant, consisted of the following: Alfalfa, beans (succulent and snap), birdsfoot trefoil, broccoli, cabbage (including Chinese), cauliflower, celery, citrus, clover, cucumbers, eggplant, filberts, grapes, melons (honeydew, muskmelon, cantaloupe, watermelons, and other melons), onions (green and dry bulb), pecans, peppers, plums and dried plums, quince, spinach, strawberries, and tomatoes.

Table 1 includes the names and addresses of record for the registrants that requested use terminations for their products, in sequence by EPA company number.

EPA Company No. | Company Name and Address
264 | Bayer CropScience 2 T.W. Alexander Drive Research Triangle Park, North Carolina 27709
10163 | Gowan Company P.O. Box 5569, Yuma, Arizona 85366-5569
11678 | Makhteshim Chemical Works, 4515 Falls of Neuse Road, Suite 300, Raleigh, North Carolina 27609
51036 | Micro-Flo Corporation, LLC., 530 Oak Court Drive, Memphis, Tennessee 38117

III. Summary of Public Comments Received and Agency Response to Comments

During the public comment period provided, EPA received no comments in response to the September 30, 2002 Federal Register notice announcing the Agency's receipt of the requests to terminate certain uses of azinphos-methyl.

IV. Use Termination Order

Pursuant to FIFRA section 6(f), EPA is issuing this cancellation order as a follow-up to the Agency's August 2003, approval of the requested amendments to terminate the Group 1 uses of azinphos-methyl from the product registrations. As noted above, new labels were approved without the Group 1 uses. Accordingly, this order incorporates the Agency's approval of the amended labels terminating the affected uses.

Any distribution, sale, or use of existing stocks of the affected products in a manner inconsistent with any of the Provisions for Disposition of Existing Stocks set forth below in Unit VI. will be considered a violation of FIFRA.

V. What is the Agency's Authority for Taking this Action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the Administrator may approve such a request. This order reflects the Agency's August 2003, approval of that request.

VI. Provisions for Disposition of Existing Stocks

Existing stocks are those stocks of registered pesticide products which are currently in the United States and which were packaged, labeled, and released for shipment prior to the effective date of the cancellation action. The cancellation order issued in this Notice includes the following existing stocks provision.

All sale, distribution and use of existing stocks by registrants of manufacturing-use products bearing these uses was prohibited 90-calender days after receipt of EPA approved revised labels reflecting the use deletions. All sale and distribution of existing stocks of end-use products bearing these uses by registrants was prohibited 90-calender days after receipt of EPA approved revised labels reflecting the use deletions. Use of existing stocks of end use products bearing these uses is not prohibited provided the users follow the labeling instructions.

List of Subjects

Environmental protection, Pesticides and pests.

Dated: December 15, 2005.
Peter Caulkins,
Acting Director, Special Review and Reregistration Division, Office of Pesticide Programs.

[FR Doc. 05-24469 Filed 12-27-05; 8:45 am]

BILLING CODE 6560-50-S